Title 3—

The President

Executive Order 13189 of January 15, 2001

Federal Interagency Task Force on the District of Columbia

By the authority vested in me as President by the Constitution and the laws of the United States of America, and in order to further the revitalization of, and to improve prospects for the success of “home rule” in the District of Columbia, the Nation's Capital, it is hereby ordered as follows:

Section 1. Background and Policy. The District of Columbia is the Nation's Capital, and the Federal Government is the largest employer, landholder, and purchaser in the region. The Executive Office of the President has established and maintained an interest in fostering the Federal relationship with the District of Columbia since 1963. This Administration has long sought to strengthen the relationship between the Federal Government and the District of Columbia by initiating a historic restructuring of this relationship. At the request of the President, in 1995, the Federal D.C. Interagency Task Force, chaired by the Director of the Office of Management and Budget, and directed by the Special Advisor to the President and Executive Director of the Federal D.C. Interagency Task Force, was created to revitalize the District of Columbia and improve prospects for “home rule” to succeed in the Nation's Capital. The Federal D.C. Interagency Task Force Office has worked with Federal agencies, the Congress, and local officials to promote long-term financial stability, economic growth, and opportunity for self-government for the District of Columbia. In 1997, the President signed into law the National Capital Revitalization and Self-Government Improvement Act of 1997, under which the Federal Government undertook certain responsibilities and governmental functions befitting a State or county government. Also in 1997, the President signed into law tax incentives designed to spur economic growth in the District of Columbia.

It is the policy of this Administration, therefore, to build on the momentum of the accomplishments over the last 5 years by formally establishing the Federal D.C. Interagency Task Force to further assist the District of Columbia in achieving financial stability, economic growth, and improvement in management and service delivery.

Sec. 2. Establishment of the Federal Interagency Task Force on the District of Columbia.

(a) There is established the “Federal Interagency Task Force on the District of Columbia” (Task Force).

(b) The Task Force shall be composed of the following members:

(1) The Attorney General;

(2) The Secretary of Housing and Urban Development;

(3) The Secretary of Health and Human Services;

(4) The Secretary of Labor;

(5) The Secretary of Transportation;

(6) The Secretary of the Treasury;

(7) The Administrator of General Services;

(8) The Secretary of Education;

(9) The Secretary of the Interior;

(10) The Administrator of the Environmental Protection Agency;

(11) The Secretary of Commerce;

(12) The Secretary of Agriculture;

(13) The Director of the Office of Management and Budget;

(14) The Administrator of the Small Business Administration;

(15) The Commissioner of the Social Security;

(16) The Secretary of Energy;

(17) The Director of the Office of Personnel Management; and

(18) Such other members as the Director of the Office of Management and Budget may provide (including the Director of the Court Services and Offender Supervision Agency, which office is located in the Department of Justice.)

(c) The Task Force shall be chaired by the Director of the Office of Management and Budget (Director). The Director may appoint an Assistant Director or other senior official to assist in the management of the Task Force.

(d) The Office of Management and Budget shall provide administrative support for the Task Force. To the extent permitted by law, other executive departments and agencies may provide such staff, resources, and information as may be required in carrying out the provisions of this order.

(e) The Director shall develop, review, modify, and, as appropriate, implement program recommendations, in cooperation with the appropriate elected Federal and local officials and agencies, to promote long-term financial stability, economic growth, and opportunity for self-government for the District of Columbia.

(f) To the extent permitted by law, the Task Force staff shall communicate with Federal and local elected officials as early in program planning cycles as reasonably feasible, to develop and explain specific Federal and local plans and program actions.

Sec. 3. Purpose. The purpose of the Interagency Task Force will be to coordinate and better leverage Administration efforts and initiatives for the District of Columbia in concert with local and regional initiatives to improve the long-term financial stability of the Nation's Capital and to improve self-governance. The Director's designee shall serve as liaison between the executive branch and the executive, legislative, and judicial branches of government of the District of Columbia, as well as the private sector.

Sec. 4. Responsibilities. To the extent permitted by law, the Interagency Task Force shall:

(a) formulate and recommend interagency compacts and cooperative agreements between Federal agencies and the District of Columbia;

(b) develop, on a continuing basis, a comprehensive and coordinated plan to establish priorities to promote long-term financial stability, economic growth, and opportunity for self-government for the District of Columbia;

(c) provide for an understanding by the public of the needs and assets of the District of Columbia;

(d) support District efforts to encourage economic growth in the District of Columbia;

(e) serve as the focal point and coordinating unit for Federal programs, technical assistance, and other support for the District of Columbia; and

(f) provide a forum for consideration of problems within the District of Columbia and propose and effectuate solutions.

Sec. 5. Assistance to Economically Distressed Areas. Members of the Task Force, to the extent permitted by law and within existing budgetary resources, shall provide targeted assistance to economically distressed areas within the District of Columbia and to projects that require economic development assistance. To the extent permitted by law, members of the Task Force shall also participate in comprehensive neighborhood revitalization initiatives requiring Federal assistance, including programs organized by the government of the District of Columbia, and collaborative efforts organized by private organizations, such as the Anacostia Best Practices initiative.

Sec. 6. Local Accommodation. To the extent permitted by law, the Federal Interagency Task Force shall make efforts to accommodate the concerns of local elected officials in proposing Federal technical or other assistance.

Sec. 7. Judicial Review. This order does not create any right or benefit, substantive or procedural, enforceable by law against the United States, its officers, its employees, or any other person.

wj

THE WHITE HOUSE,

January 15, 2001.

[FR Doc. 01-1813

Filed 1-18-01; 8:45 am]

Billing code 3195-01-P